DEPARTMENT OF ENERGY

10 CFR Part 430

[EERE-2017-BT-STD-0014]

RIN 1904-AD98

Energy Conservation Program: Energy Conservation Standards for Residential Clothes Washers

AGENCY: Office of Energy Efficiency and Renewable Energy, Department of Energy.

ACTION: Reopening of public comment period.

SUMMARY: The U.S. Department of Energy (“DOE”) is reopening the public comment period for its request for information (“RFI”) to solicit information from the public to help DOE determine whether to amend standards for residential clothes washers (“RCWs”). DOE published the RFI in the Federal Register on August 2, 2019 establishing a 30-day public comment period ending September 3, 2019. On August 2, 2019, DOE received a comment requesting a 30 day comment period extension. On August 26, 2019, DOE published a notice in the Federal Register extending the public comment on the RFI to receive comments no later than October 3, 2019. On September 20, 2019, DOE received a comment requesting an additional 14 day comment period extension; therefore, DOE is reopening the public comment period for submitting comments and data on the RFI by 14 days to October 17, 2019.

DATES: The comment period for the RFI published on August 2, 2019 (84 FR 37794), is reopening. DOE will accept comments, data, and information regarding this rulemaking received no later than October 17, 2019.

ADDRESSES: Interested persons are encouraged to submit comments, identified by docket number EERE-2017-BT-STD-0014, by any of the following methods:

Federal eRulemaking Portal: http://www.regulations.gov. Follow the instructions for submitting comments.

Email: ConsumerClothesWasher2017STD0014@ee.doe.gov. Include the docket number and/or RIN in the subject line of the message. Submit electronic comments in WordPerfect, Microsoft Word, PDF, or ASCII file format, and avoid the use of special characters or any form of encryption.

Postal Mail: Appliance and Equipment Standards Program, U.S. Department of Energy, Building Technologies Office, Mailstop EE-5B, 1000 Independence Avenue SW, Washington, DC 20585-0121. If possible, please submit all items on a compact disc (“CD”), in which case it is not necessary to include printed copies.

Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted.

Docket: For access to the docket to read background documents, or comments received, go to the Federal eRulemaking Portal at http://www.regulations.gov/#!docketDetail;D=EERE-2017-BT-STD-0014.

The docket, which includes Federal Register notices, public meeting attendee lists and transcripts, comments, and other supporting documents/materials, is available for review at http://www.regulations.gov. All documents in the docket are listed in the http://www.regulations.gov index. However, some documents listed in the index may not be publicly available, such as those containing information that is exempt from public disclosure.

The docket web page can be found at: http://www.regulations.gov/#!docketDetail;D=EERE-2017-BT-STD-0014. The docket web page contains instructions on how to access all documents, including public comments, in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Ms. Elizabeth Kohl, U.S. Department of Energy, Office of the General Counsel, GC-33, 1000 Independence Avenue SW, Washington, DC 20585-0121. Telephone: (202) 586-7796. Email: Elizabeth.Kohl@hq.doe.gov.

For further information on how to submit a comment or review other public comments and the docket contact the Appliance and Equipment Standards Program staff at (202) 287-1445 or by email: ApplianceStandardsQuestions@ee.doe.gov.

SUPPLEMENTARY INFORMATION: On August 2, 2019, DOE published a notice in the Federal Register soliciting public comment on its RFI to help DOE determine whether to amend standards for RCWs. 84 FR 37794. Comments were originally due on September 3, 2019. On August 2, 2019, DOE received a comment from Association of Home Appliance Manufacturers (AHAM) requesting a 30 day comment period extension.¹ On August 26, 2019, DOE published a notice in the Federal Register extending the public comment on the RFI to receive comments no later than October 3, 2019. 84 FR 44557. On September 20, 2019, DOE received a comment from AHAM requesting an additional 14 day comment period extension.² DOE has reviewed the request and considered the benefit to stakeholders in providing additional time to review the RFI and gather information/data that DOE is seeking.

¹ DOE has posted this comment to the docket at https://www.regulations.gov/document?D=EERE-2017-BT-STD-0014-0003.

² DOE has posted this comment to the docket at https://www.regulations.gov/document?D=EERE-2017-BT-STD-0014-0007.

Accordingly, DOE has determined that an extension of the comment period is appropriate, and is hereby extending the comment period by 14 days, until October 17, 2019.

Signed in Washington, DC, on September 27, 2019.
Alexander N. Fitzsimmons,
Acting Deputy Assistant Secretary for Energy Efficiency, Energy Efficiency and Renewable Energy.

[FR Doc. 2019-21534 Filed 10-2-19; 8:45 am]

BILLING CODE 6450-01-P